FEDERAL MARITIME COMMISSION

Notice of Meeting

Agency Holding the Meeting: Federal Maritime Commission.

Time and Date: April 30, 2008—9:30 a.m.

Place: 800 North Capitol Street, NW., First Floor Hearing Room, Washington, DC.

Status: Part of the Meeting will be held in Open Session and the remainder of the meeting will be held in Closed Session.

Matters To Be Considered:

Open Session

1. FMC Meetings Processes/Procedures.

2. 2007 Annual Employee Survey.

3. OIG Semiannual Report to the Congress covering the period October 1, 2007—March 31, 2008.

4. Docket No. 06-05—Verucci Motorcycles LLC v. Senator International Ocean LLC

Closed Session

1. Internal Administrative Practices and Personnel Matters.

2. Direction to Staff Regarding Budget Hearing Committee Requests.

3. FMC Agreement No. 201178—Los Angeles/Long Beach Port ITerminal Operator Administration and Implementation Agreement.

Contact Person For More Information: Karen V. Gregory, Assistant Secretary, (202) 523-5725.

Karen V. Gregory,
Assistant Secretary.

[FR Doc. E8-9280 Filed 4-28-08; 8:45 am]

BILLING CODE 6730-01-M